DEPARTMENT OF ENERGY

Federal Energy Regulatory Commission

[Docket No. RP95-408-039]

Columbia Gas Transmission Corporation; Notice of Filing of Refund Report

February 28, 2001.

Take notice that on February 20, 2001, Columbia Gas Transmission Corporation Columbia) filed a refund report in the above referenced docket, pursuant to Section 154.501(e) of the Federal Regulatory Commission's (Commission) regulations.

Columbia states that it made a filing on December 15, 2000, pursuant to a settlement approved by the Commission in Docket no. RP95-408 (79 FERC ¶61,044), to share gains from the sale of certain gathering and products extraction facilities. The Commission approved the filing on January 31, 2001. Columbia states that the instant filing shows that Columbia made the refund, including interest through the date of refund, which was January 22, 2001.

Columbia states that copies of its filing have been mailed to all affected customers and state commissions.

Any person desiring to protest said filing should file a protest with the Federal Energy Regulatory Commission, 888 First Street, NE., Washington, DC 20426, in accordance with section 385.211 of the Commission's Rules and Regulations. All such protests must be filed on or before March 9, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-5354 Filed 3-5-01; 8:45 am]

BILLING CODE 6717-01-M